FEDERAL COMMUNICATIONS COMMISSION

[GN Docket No. 12-268; DA 13-1954]

Media Bureau Seeks Comment on Catalog of Eligible Expenses and Other Issues Related to the Reimbursement of Broadcaster Channel Reassignment Costs Following the Incentive Auction

AGENCY: Federal Communications Commission.

ACTION: Notice.

SUMMARY: In this document, the Federal Communications Commission (Commission) seeks comment on a Catalog of Eligible Expenses that includes costs broadcasters may incur as a result of channel reassignment following the Incentive Auction. In order to disburse money from the Fund within the limitations of the Spectrum Act, the Commission seeks comment on the types of expenses broadcasters might incur, the price of the equipment and services broadcasters will require, and how broadcasters and the Commission can mitigate costs. The record obtained in response to this Notice will help the Commission establish expense reimbursement provisions that govern disbursement from the Fund to broadcasters reassigned to a new channel following the Incentive Auction.

DATES: Comments are due on October 31, 2013. Reply Comments are due on November 14, 2013.

ADDRESSES: All filings must be addressed to the Commission's Secretary, Office of the Secretary, Federal Communications Commission, 445 12th Street SW., Washington, DC 20554. Commercial overnight mail (other than U.S. Postal Service Express Mail and Priority Mail) must be sent to 9300 East Hampton Drive, Capitol Heights, MD 20743. U.S. Postal Service first-class, Express, and Priority mail must be addressed to 445 12th Street SW., Washington DC 20554. Parties shall also serve one copy with the Commission's copy contractor, Best Copy and Printing, Inc. (BCPI), Portals II, 445 12th Street SW., Room CY-B402, Washington, DC 20554, (202) 488-5300, or via email to fcc@bcpiweb.com.

FOR FURTHER INFORMATION CONTACT: Pamela Gallant, 202-418-0614, Mary Margaret Jackson, 202-418-3641 or Kim Matthews, 202-418-2154.

SUPPLEMENTARY INFORMATION:

Synopsis of the Public Notice

With the assistance of a third-party contractor, and based on the record to date, the Media Bureau has developed a Catalog of Eligible Expenses that lists specific types of expenses within cost categories that broadcasters might incur following channel relocation. The Catalog of Eligible Expenses includes both “hard” costs, such as new equipment, and “soft” costs, such as legal and engineering services. The Notice seeks comment not only on the types of expenses listed in the Catalog of Eligible Expenses, but also on the prices of the equipment and services. Because the Spectrum Act limits the Broadcaster Relocation Fund to $1.75 billion, the Commission also seeks comments on ways to mitigate costs. Specifically, the Notice seeks comment on whether bulk purchasing or services agreements, competitive bidding and other methods designed to control costs could be employed to mitigate the overall cost of channel reassignment. The Notice also requests comment on the extent to which broadcasters could save costs by sharing facilities and reusing equipment purchased for interim use during the transition.

1. Procedural Matters: The proceeding will be treated as a “permit-but-disclose” proceeding subject to the “permit-but-disclose” requirements under § 1.1206(b) of the Commission's rules.¹ Ex parte presentations are permissible if disclosed in accordance with Commission rules, except during the Sunshine Agenda period when presentations, ex parte or otherwise, are generally prohibited. Persons making oral ex parte presentations are reminded that a memorandum summarizing a presentation must contain a summary of the substance of the presentation and not merely a listing of the subjects discussed. More than a one- or two-sentence description of the views and arguments presented is generally required.² Additional rules pertaining to oral and written presentations are set forth in § 1.1206(b).

¹ 47 CFR 1.1206(b), as revised.

² Id. § 1.1206(b)(2).

12. Comment Information: Pursuant to §§ 1.415 and 1.419 of the Commission's rules, 47 CFR 1415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

Electronic Filers: Comments may be filed electronically using the Internet by accessing the ECFS: http://fjallfoss.fcc.gov/ecfs2/ or the Federal eRulemaking Portal: http://www.regulations.gov.

For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet email. To get filing instructions, filers should send an email to ecfs@fcc.gov, and include the following words in the body of the message “get form.” A Sample form and directions will be sent in response.

Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (tty).

Federal Communications Commission.
Thomas Horan,
Chief of Staff, Media Bureau.

[FR Doc. 2013-23926 Filed 9-30-13; 8:45 am]

BILLING CODE 6712-01-P